DEPARTMENT OF ENERGY

Federal Energy Regulatory Commission

[Docket No. PF06-16-000]

Kinder Morgan Louisiana Pipeline, L.L.C.; Notice of Site Visit and Public Meetings To Receive Environmental Comments on the Proposed Kinder Morgan Pipeline Project

April 26, 2006.

On March 24, 2006, the staff of the Federal Energy Regulatory Commission issued a Notice of Intent to Prepare an Environmental Impact Statement for the Proposed Kinder Morgan Pipeline Project and Request for Comments on Environmental Issues (NOI). As part of our review process we will visit the proposed project route and hold three public scoping meetings to allow the public an opportunity to comment on the proposed project.

Public scoping meetings are designed to provide an opportunity for landowners and concerned citizens to offer comments on the environmental issues they believe should be addressed in our analysis. To ensure that every comment is accurately recorded, a court reporter will be present to prepare an official transcript of each meeting. Concerned citizens are invited to attend any of the following public comment meetings:

Monday, May 8, 2006

6:30-8:30 p.m. (CDT), Ville Platte High School Auditorium, 210 West Cotton Street, Ville Platte, LA.

Tuesday, May 9, 2006

6:30-8:30 p.m. (CDT), Sulphur City Hall, 500 N. Huntington Street, Sulphur, LA.

Thursday, May 11, 2006

6:30-8:30 p.m. (CDT), Iowa Community Center, 207 West Highway 90, Iowa, LA.

Additionally, on May 9 through May 11, 2006, staff accompanied by representatives from Kinder Morgan will conduct a series of site visits of the proposed Kinder Morgan Louisiana Pipeline route. All interested parties are welcome to attend the car-based site visit. Those planning to attend must provide their own transportation.

Individuals with questions regarding this notice as well as those interested in attending either the public meetings or the car-based site visit should contact the Commission's Office of External Affairs at 866-208-FERC (3372).

Magalie R. Salas,
Secretary.

[FR Doc. E6-6577 Filed 5-1-06; 8:45 am]

BILLING CODE 6717-01-P